DEPARTMENT OF THE INTERIOR

Fish and Wildlife Service

[Docket No. FWS-HQ-IA-2018-0072; FXIA16710900000-178-FF09A30000]

Foreign Endangered Species; Receipt of Permit Applications

AGENCY: Fish and Wildlife Service, Interior.

ACTION: Notice of receipt of permit applications.

SUMMARY: We, the U.S. Fish and Wildlife Service, invite the public to comment on applications to conduct certain activities with foreign species that are listed as endangered under the Endangered Species Act (ESA). With some exceptions, the ESA prohibits activities with listed species unless Federal authorization is issued that allows such activities. The ESA also requires that we invite public comment before issuing permits for endangered species.

DATES: We must receive comments by December 7, 2018.

ADDRESSES:

Obtaining Documents: The applications, application supporting materials, and any comments and other materials that we receive will be available for public inspection at http://www.regulations.gov in Docket No. FWS-HQ-IA-2018-0072.

Submitting Comments: When submitting comments, please specify the name of the applicant and the permit number at the beginning of your comment. You may submit comments by one of the following methods:

• Internet: http://www.regulations.gov. Search for and submit comments on Docket No. FWS-HQ-IA-2018-0072.

• U.S. Mail or Hand-Delivery: Public Comments Processing, Attn: Docket No. FWS-HQ-IA-2018-0072; U.S. Fish and Wildlife Service Headquarters, MS: BPHC; 5275 Leesburg Pike; Falls Church, VA 22041-3803.

For more information, see Public Comment Procedures under SUPPLEMENTARY INFORMATION.

FOR FURTHER INFORMATION CONTACT: Brenda Tapia, by phone at 703-358-2104, via email at DMAFR@fws.gov, or via the Federal Relay Service at 800-877-8339.

SUPPLEMENTARY INFORMATION:

I. Public Comment Procedures

A. How do I comment on submitted applications?

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments on http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(a)(1)(A) of the Endangered Species Act of 1973, as amended (ESA; 16 U.S.C. 1531 et seq.), we invite public comments on permit applications before final action is taken. With some exceptions, the ESA prohibits activities with listed species unless Federal authorization is issued that allows such activities. Permits issued under section 10 of the ESA allow activities for scientific purposes or to enhance the propagation or survival of the affected species. Regulations regarding permit issuance under the ESA are in title 50 of the Code of Federal Regulations in part 17. ESA permits cover a wide range of activities pertaining to foreign listed species, including import, export, and activities in the United States.

III. Permit Applications

We invite comments on the following applications.

Applicant: Dr. Viktoria Oelze, University of California Santa Cruz, Santa Cruz, CA; Permit No. 91602C

The applicant requests authorization to import non-invasively collected hair samples from wild chimpanzees (Pan troglodytes) in Tanzania for the purpose of scientific research. This notification covers activities to be conducted by the applicant over a 5-year period.

Applicant: Wildlife Conservation Society, Bronx, NY; Permit No. 85317C

The applicant requests authorization to import biological samples collected from wild, captive-held, and/or captive-born specimens of any and all endangered animal species from any and all worldwide locations, for the purpose of scientific research. No animals may be intentionally killed for the purpose of collecting such samples. Any invasively collected samples can only be collected by trained personnel. This notification covers activities to be conducted by the applicant over a 5-year period.

Applicant: Dr. Tom McCarthy, Panthera Corporation, New York, NY; Permit No. 91449C

The applicant requests authorization to import biological samples collected from wild snow leopards (Unicia uncia) in Kyrgyzstan for the purpose of scientific research. This notification covers activities to be conducted by the applicant over a 5-year period.

Applicant: Dmitri Petrov, Stanford University, Stanford, CA; Permit No. 93509C

The applicant requests authorization to import biological samples from wild African wild dog (Lycaon pictus) from Painted Dog Conservation, Harare, Zimbabwe, for the purpose of scientific research. This notification covers activities to be conducted by the applicant over a 5-year period.

Applicant: Six Flags Great Adventure Safari Park, Jackson, NJ; Permit No. 701129

The applicant requests renewal of a captive-bred wildlife registration under 50 CFR 17.21(g) for Siberian tiger (Panthera tigris altaica) to enhance the propagation or survival of the species. This notification covers activities to be conducted by the applicant over a 5-year period.

Applicant: Wildlife Partners LLC, San Antonio, TX; Permit No. 98330C

The applicant requests a captive-bred wildlife registration under 50 CFR 17.21(g) for Arabian oryx (Oryx leucoryx) to enhance the propagation or survival of the species. This notification covers activities to be conducted by the applicant over a 5-year period.

Applicant: Lowry Park Zoological Society of Tampa, Inc. (ZooTampa at Lowry Park), Tampa, FL; Permit No. 90228C

The applicant requests a captive-bred wildlife registration under 50 CFR 17.21(g) for Komodo Island monitor (Varanus komodoensis), yellow-footed rock wallaby (Petrogale xanthopus), great Indian rhinoceros (Rhinoceros unicornis), Asian tapir (Tapirus indicus), clouded leopard (Neofelis nebulosa) and African penguin (Spheniscus demersus), to enhance the propagation or survival of the species. This notification covers activities to be conducted by the applicant over a 5-year period.

Applicant: Columbus Zoo and Aquarium, Powell, OH; Permit No. 72284C

The applicant requests a permit to import samples derived from wild black-and-white ruffed lemurs (Varecia variegata) from Centre ValBio Research Station, Ranomafana, Madagascar, for the purpose of scientific research. This notification is for a single import.

Applicant: Pinola Conservancy, Shreveport, LA; Permit No. 78121C

The applicant requests a captive-bred wildlife registration under 50 CFR 17.21(g) for Japanese crane (Grus japonensis) and Cabot's tragopan pheasant (Tragopan caboti). This notification covers activities to be conducted by the applicant over a 5-year period.

Multiple Applicants

The following applicants request permits to import sport-hunted trophies of male bontebok (Damaliscus pygargus pygargus) culled from a captive herd maintained under the management program of the Republic of South Africa, for the purpose of enhancing the propagation or survival of the species.

Applicant: Michael Stein, Francisco, IN; Permit No. 97800C

Applicant: Brenda Potterfield, Columbia, MO; Permit No. 98341C

Applicant: Nicholas Potterfield, Columbia, MO; Permit No. 98343C

Applicant: Sara Potterfield, Columbia, MO; Permit No. 98344C

Applicant: Rich Cabela, Sidney, NE; Permit No. 97878C

Applicant: Patrick Sands, Dallas, TX; Permit No. 98646C

Applicant: Nello Cooper, Fairbanks, AK; Permit No. 98051C

Applicant: Wyatt Norman, Corpus Christi, TX; Permit No. 97895C

IV. Next Steps

If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations.

Brenda Tapia,
Program Analyst/Data Administrator, Branch of Permits, Division of Management Authority.

[FR Doc. 2018-24348 Filed 11-6-18; 8:45 am]

BILLING CODE 4333-15-P